FEDERAL COMMUNICATIONS COMMISSION

[FR ID 177970]

Open Commission Meeting Thursday, October 19, 2023

The Federal Communications Commission will hold an Open Meeting on the subjects listed below on Thursday, October 19, 2023, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Wireline Competition | Title: Safeguarding and Securing the Open Internet (WC Docket No. 23-320).
|  | Summary: The Commission will consider a Notice of Proposed Rulemaking that proposes to reestablish the Commission's authority over broadband Internet access service by classifying it as a telecommunications service under Title II of the Communications Act, which would allow the Commission to protect consumers by issuing straightforward, clear rules to prevent Internet service providers from engaging in practices harmful to consumers, competition, and public safety; establish a uniform, national regulatory approach rather than disparate requirements that vary state-by-state; strengthen the Commission's ability to secure communications networks and critical infrastructure against national security threats; and enable the Commission to protect public safety during natural disasters and other emergencies.
2 | Wireline Competition | Title: Modernizing the E-Rate Program for Schools and Libraries (WC Docket No. 13-184).
|  | Summary: The Commission will consider a Declaratory Ruling that would clarify that the use of Wi-Fi on school buses is an educational purpose and the provision of such service is therefore eligible for E-Rate funding.
3 | Office of General Counsel | Title: Broadband Connectivity and Maternal Health—Implementation of the Data Mapping to Save Moms' Lives Act (GN Docket No. 23-309).
|  | Summary: The Commission will consider a Notice of Inquiry that will seek comment on its proposed plan to improve and enhance maternal health data in the Mapping Broadband Health in America platform, in order to ensure that future updates to the platform reflect input from stakeholders and other interested parties and improves the user experience. The platform was updated in June 2023 to incorporate publicly available data on maternal mortality and severe maternal morbidity pursuant to the Data Mapping to Save Moms' Lives Act.
4 | Office of Engineering and Technology | Title: Unlicensed Use of the 6 GHz Band (ET Docket No. 18-295); Expanding Flexible Use in Mid-Band Spectrum Between 3.7 and 24 GHz (GN Docket No. 17-183).
|  | Summary: The Commission will consider a Second Report and Order that would expand unlicensed use of the 6 GHz band by permitting very low power devices to operate in two sub-bands, a Second Further Notice of Proposed Rulemaking that would propose to expand very low power device operations to the remainder of the band, and a Memorandum Opinion and Order that would address a remand from a court challenge of a previous decision in the docket.
5 | Wireline Competition | Title: Connect America Fund (WC Docket No. 10-90); Connect America Fund—Alaska Plan (16-271); Universal Service Reform—Mobility Fund (WT Docket No. 10-208); ETC Annual Reports and Certifications (WC Docket No. 14-58); Telecommunications Carriers Eligible To Receive Universal Service Support (WC Docket No. 09-197).
|  | Summary: The Commission will consider a Notice of Proposed Rulemaking seeking comment on the use of high-cost program funding to continue supporting fixed and mobile services in Alaska. The accompanying Report and Order makes administrative changes to streamline high-cost program rules.
6 | Public Safety and Homeland Security | Title: Wireless Emergency Alerts (PS Docket No. 15-91); Amendments to Part 11 of the Commission's Rules Regarding the Emergency Alert System (PS Docket No. 15-94).
|  | Summary: The Commission will consider a Report and Order that would improve Wireless Emergency Alerts by making WEA messages available in additional languages, including American Sign Language (ASL); supporting maps that show the location of an emergency; making it easier to conduct public-facing WEA performance and public awareness tests; and providing alert originators and members of the public with access to information about where and how WEA is available within their communities.
7 | Media | Title: Video Description: Implementation of the Twenty-First Century Communications and Video Accessibility Act of 2010 (MB Docket No. 11-43).
|  | Summary: The Commission will consider a Second Report and Order that will enhance support for individuals who are blind or visually impaired by expanding audio description requirements to additional market areas. The Order would help ensure that a greater number of individuals who are blind or visually impaired can be connected, informed, and entertained by television programming.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Dated: October 12, 2023.
Marlene Dortch,
Secretary.

[FR Doc. 2023-22937 Filed 10-17-23; 8:45 am]

BILLING CODE 6712-01-P